DEPARTMENT OF HOMELAND SECURITY

Federal Emergency Management Agency

[Docket ID FEMA-2012-0003]

Changes in Flood Hazard Determinations

AGENCY: Federal Emergency Management Agency, DHS.

ACTION: Final notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Arizona:
Coconino (FEMA Docket No.: B-1268) | City of Flagstaff (12-09-1074P) | The Honorable Sara Presler, Mayor, City of Flagstaff, 211 West Aspen Avenue, Flagstaff, AZ 86001 | City Hall, Stormwater Management Section, 211 West Aspen Avenue, Flagstaff, AZ 86001 | September 20, 2012 | 040020
Pima (FEMA Docket No.: B-1268) | Town of Marana (12-09-0475P) | The Honorable Ed Honea, Mayor, Town of Marana, 11555 West Civic Center Drive, Marana, AZ 85653 | Engineering Department, 11555 West Civic Center Drive, Marana, AZ 85653 | September 10, 2012 | 040118
California:
Los Angeles (FEMA Docket No.: B-1268) | City of Long Beach (12-09-0872P) | The Honorable Bob Foster, Mayor, City of Long Beach, 333 West Ocean Boulevard, 14th Floor, Long Beach, CA 90802 | City Hall, 333 West Ocean Boulevard, 9th Floor, Long Beach, CA 90802 | October 5, 2012 | 060136
San Diego (FEMA Docket No.: B-1268) | City of Poway (12-09-1309P) | The Honorable Don Higginson, Jr., Mayor, City of Poway, 13325 Civic Center Drive, Poway, CA 92064 | City Hall, 13325 Civic Center Drive, Poway, CA 92064 | September 28, 2012 | 060702
San Diego (FEMA Docket No.: B-1268) | Unincorporated areas of San Diego County (11-09-3923P) | The Honorable Ron Roberts, Chairman, San Diego County Board of Supervisors, 1600 Pacific Highway, Room 335, San Diego, CA 92101 | San Diego County Department of Public Works, Flood Control Division, 5201 Ruffin Road, Suite P, San Diego, CA 92123 | September 13, 2012 | 060284
Colorado:
Adams (FEMA Docket No.: B-1268) | City of Aurora (12-08-0046P) | The Honorable Steve Hogan, Mayor, City of Aurora, 15151 East Alameda Parkway, Aurora, CO 80012 | Engineering Department, 15151 East Alameda Parkway, Aurora, CO 80012 | August 24, 2012 | 080002
Denver (FEMA Docket No.: B-1268) | City and County of Denver (12-08-0237P) | The Honorable Michael B. Hancock, Mayor, City and County of Denver, 1437 Bannock Street, Suite 350, Denver, CO 80202 | Department of Public Works, 201 West Colfax Avenue, Department 507, Denver, CO 80202 | October 5, 2012 | 080046
El Paso (FEMA Docket No.: B-1268) | City of Colorado Springs (12-08-0218P) | The Honorable Steve Bach, Mayor, City of Colorado Springs, 30 South Nevada Avenue, Colorado Springs, CO 80903 | City Administration, 30 South Nevada Avenue, Colorado Springs, CO 80903 | October 8, 2012 | 080060
Larimer (FEMA Docket No.: B-1268) | Town of Estes Park (11-08-0971P) | The Honorable William C. Pinkham, Mayor, Town of Estes Park, P.O. Box 1200, Estes Park, CO 80517 | Municipal Building, 170 MacGregor Avenue, Estes Park, CO 80517 | October 1, 2012 | 080193
Florida:
Monroe (FEMA Docket No.: B-1268) | Unincorporated areas of Monroe County (12-04-2446P) | The Honorable David Rice, Mayor, Monroe County, 9400 Overseas Highway, Suite 210, Marathon Airport Terminal, Marathon, FL 33050 | Monroe County Building Department, 2798 Overseas Highway, Suite 330, Marathon, FL 33050 | September 20, 2012 | 125129
Orange (FEMA Docket No.: B-1268) | Unincorporated areas of Orange County (11-04-6805P) | The Honorable Teresa Jacobs, Mayor, Orange County, 201 South Rosalind Avenue, Orlando, FL 32801 | Orange County Stormwater Management Department, 4200 South John Young Parkway, Orlando, FL 32839 | October 5, 2012 | 120179
Orange (FEMA Docket No.: B-1268) | Unincorporated areas of Orange County (12-04-2577P) | The Honorable Teresa Jacobs, Mayor, Orange County, 201 South Rosalind Avenue, Orlando, FL 32801 | Orange County Stormwater Management Department, 4200 South John Young Parkway, Orlando, FL 32839 | September 21, 2012 | 120179
Pinellas (FEMA Docket No.: B-1268) | City of Treasure Island (12-04-2824P) | The Honorable Robert Minning, Mayor, City of Treasure Island, 120 108th Avenue, Treasure Island, FL 33706 | City Hall, Building Department, 120 108th Avenue, Treasure Island, FL 33706 | September 20, 2012 | 125153
Nevada:
Washoe (FEMA Docket No.: B-1268) | City of Sparks (11-09-3429P) | The Honorable Gino Martini, Mayor, City of Sparks, P.O. Box 857, Sparks, NV 89432 | City Hall, 431 Prater Way, Sparks, NV 89432 | September 21, 2012 | 320021
Washoe (FEMA Docket No.: B-1268) | Unincorporated areas of Washoe County (11-09-3429P) | The Honorable Robert Larkin, Chairman, Washoe County Board of Commissioners, P.O. Box 11130, Reno, NV 89520 | Washoe County Administration Building, Department of Public Works, 1001 East 9th Street, Reno, NV 89512 | September 21, 2012 | 320019
South Carolina:
Richland (FEMA Docket No.: B-1268) | City of Columbia (11-04-0263P) | The Honorable Steve Benjamin, Mayor, City of Columbia, 1737 Main Street, Columbia, SC 29201 | City Hall, 1737 Main Street, Columbia, SC 29201 | October 1, 2012 | 450172
York (FEMA Docket No.: B-1268) | City of Rock Hill (12-04-0821P) | The Honorable Doug Echols, Mayor, City of Rock Hill, P.O. Box 11706, Rock Hill, SC 29731 | City Hall, 155 Johnson Street, Rock Hill, SC 29731 | September 17, 2012 | 450196
Utah:
Wasatch (FEMA Docket No.: B-1268) | Town of Independence (12-08-0153P) | The Honorable Phil Sweat, Mayor, Town of Independence, 4530 East Center Creek Road, Heber City, UT 84032 | 4530 East Center Creek Road, Heber City, UT 84032 | August 30, 2012 | 490263
Wasatch (FEMA Docket No.: B-1268) | Unincorporated areas of Wasatch County (12-08-0153P) | The Honorable Michael L. Kohler, Chairman, Wasatch County Board of Commissioners, 25 North Main, Heber City, UT 84032 | 188 South Main, Heber City, UT 84032 | August 30, 2012 | 490164
Wyoming:
Laramie (FEMA Docket No.: B-1268) | City of Cheyenne (11-08-0928P) | The Honorable Richard Kaysen, Mayor, City of Cheyenne, 2101 O'Neil Avenue, Room 310, Cheyenne, WY 82001 | Engineer's Office, 2101 O'Neil Avenue, Room 206, Cheyenne, WY 82001 | September 27, 2012 | 560030
Laramie (FEMA Docket No.: B-1268) | Unincorporated areas of Laramie County (11-08-0928P) | The Honorable Gay Woodhouse, Chairman, Laramie County Board of Commissioners, 310 West 19th Street, Suite 300, Cheyenne, WY 82001 | Laramie County Planning Department, Historic County Courthouse, 310 West 19th Street, Suite 400, Cheyenne, WY 82001 | September 27, 2012 | 560029

(Catalog of Federal Domestic Assistance No. 97.022, “Flood Insurance.”)

James A. Walke,
Acting Deputy Associate Administrator for Mitigation, Department of Homeland Security, Federal Emergency Management Agency.

[FR Doc. 2012-31303 Filed 12-27-12; 8:45 am]

BILLING CODE 9110-12-P